DEPARTMENT OF THE INTERIOR

Fish and Wildlife Service

[FWS-R1-ES-2015-N007; FXES11120100000-156-FF01E00000]

Draft Candidate Conservation Agreement With Assurances, Receipt of Application for an Enhancement of Survival Permit for the Greater Sage-Grouse on Oregon Department of State Lands, and Draft Environmental Assessment

AGENCY: Fish and Wildlife Service, Interior.

ACTION: Notice of availability; request for comments.

SUMMARY: We, the U.S. Fish and Wildlife Service (Service), have received an application from the Oregon Department of State Lands (DSL) for an enhancement of survival (EOS) permit under the Endangered Species Act of 1973, as amended (ESA). The permit application includes a draft candidate conservation agreement with assurances (CCAA) for the greater sage-grouse, addressing rangeland management activities on Oregon State Trust Lands administered by DSL. The Service also announces the availability of a draft environmental assessment (EA), prepared pursuant to the National Environmental Policy Act of 1969 (NEPA), addressing the proposed CCAA and issuance of an EOS permit. We invite comments from all interested parties on the application, including the draft CCAA and the draft EA.

DATES: To ensure consideration, written comments must be received from interested parties no later than March 25, 2015.

ADDRESSES: To request further information or submit written comments, please use one of the following methods, and note that your information request or comments are in reference to the DSL CCAA.

• Internet: Documents may be viewed on the Internet at http://www.fws.gov/oregonfwo/.

• Email: Jeff_Everett@fws.gov. Include “DSL CCAA” in the subject line of the message.

• U.S. Mail: U.S. Fish and Wildlife Service, Oregon Fish and Wildlife Office, 2600 SE 98th Ave., Suite 100, Portland, OR 97266.

• Fax: 503-231-6195, Attn: DSL CCAA.

• In-Person Viewing or Pickup: Documents will be available for public inspection by appointment during normal business hours at the U.S. Fish and Wildlife Service, Oregon Fish and Wildlife Office, 2600 SE 98th Ave., Suite 100, Portland, OR.

FOR FURTHER INFORMATION CONTACT: Jeff Everett or Jennifer Siani, U.S. Fish and Wildlife Service, Oregon Fish and Wildlife Office (see ADDRESSES), telephone: 503-231-6179. If you use a telecommunications device for the deaf, please call the Federal Information Relay Service at 800-877-8339.

SUPPLEMENTARY INFORMATION: We have received an application from DSL for an EOS permit under section 10(a)(1)(A) the ESA for incidental take of sage-grouse (Centrocercus urophasianus). The permit application includes a draft CCAA prepared by the Service and the DSL to conserve the greater sage-grouse and its habitat on Oregon State Trust lands administered by DSL.

Background Information

Private and other non-Federal property owners are encouraged to enter into CCAAs, in which they voluntarily undertake management activities on their properties to enhance, restore, or maintain habitat benefiting species that are proposed for listing under the ESA, candidates for listing, or species that may become candidates or proposed for listing. Through a CCAA and its associated EOS permit, the Service provides assurances to property owners that they will not be subjected to increased land use restrictions if the covered species become listed under the ESA in the future, provided certain conditions are met.

Application requirements and issuance criteria for EOS permits for CCAAs are found in the Code of Federal Regulations (CFR) at 50 CFR 17.22(d) and 17.32(d), respectively. See also our joint policy on CCAAs, which we published in the Federal Register with the Department of Commerce's National Oceanic and Atmospheric Administration, National Marine Fisheries Service (64 FR 32726; June 17, 1999).

On March 23, 2010, the Service determined that listing the greater sage-grouse under the ESA (16 U.S.C. 1538) was warranted, but precluded by the need to address higher priority species first. In anticipation of the potential listing of sage-grouse under the ESA, the DSL requested assistance from the Service in developing a sage-grouse CCAA for rangeland management activities on Oregon State Trust lands.

Proposed Action

The Service proposes to approve the draft CCAA and to issue an EOS permit, both with a term of 30 years, to the DSL for incidental take of greater sage-grouse caused by covered activities, if permit issuance criteria are met. Covered activities on DSL lands would include sage-grouse conservation, rangeland treatments, livestock management, recreation, and existing agricultural operations. Covered activities may be conducted by DSL or their authorized agents including lessees of DSL lands. The area covered under the proposed CCAA is approximately 633,000 acres of Oregon State Trust Lands located in Baker, Crook, Deschutes, Grant, Harney, Lake, Malheur, and Union Counties, Oregon. The covered lands encompass approximately 380,705 acres of low-density sage-grouse habitat (or preliminary general habitat/PGH) and approximately 153,107 acres of core area sage-grouse habitat (or preliminary priority habitat/PPH). Sage-grouse currently use habitats on these lands for lekking (communal breeding displays), late-brood rearing, and wintering.

The draft CCAA describes all of the threats to sage-grouse that have been identified on the covered lands, including: Loss and fragmentation of sagebrush habitat; large wildfires, as well as lack of fire in some areas; encroachment of junipers and other conifers; improper grazing; invasive plants; vegetation treatments that reduce or degrade sagebrush habitat; degradation of riparian areas; drought, as well as catastrophic flooding; disturbance from recreation and other activities; predation; West Nile virus; wild horses and burros; and insecticide use. The CCAAs also describe conservation measures the DSL would implement to address each threat.

Under the CCAA, the DSL would prepare a Sage Grouse Habitat Assessment (SGHA), which would serve as a site-specific plan, for each land parcel under DSL administration. The SGHA would include conservation measures from the draft CCAA that would address all threats occurring on that parcel of land. The Service will review submitted SGHAs and approve them through a letter of concurrence if the SGHAs are consistent with the CCAA, EOS permit terms and conditions, and the CCAA standard. Should the sage-grouse become listed, take authorization would be effective once a minimum of 25 percent of the covered lands have completed and approved SGHAs. The amount of incidental take authorized will be proportional to the acres of habitat where SGHAs are being properly implemented. DSL staff will implement many of the conservation measures identified in the SGHAs, but measures directly related to grazing operations may be included as lessee responsibilities in their annual operating plans.

National Environmental Policy Act Compliance

Approval of a CCAA and issuance of an EOS permit are Federal actions that trigger the need for compliance with NEPA. Pursuant to NEPA, we have prepared a draft EA to analyze the environmental impacts related to the issuance of an EOS permit for sage-grouse and implementation of the conservation measures under the proposed CCAA.

The EA analyses two alternatives: The proposed action, which is described above, and the “no action” alternative. Under the no action alternative, the Service would not enter into the CCAA with DSL, nor issue the EOS permit. The Service also considered, but did not analyze in detail, two additional alternatives. The first of these would have required DSL to implement all grazing CMs immediately upon approval of the CCAA. This alternative was rejected, because immediate implementation would have to proceed prior to having the benefit of the completed SGHAs. The second additional alternative was a substantial reduction in the amount of cattle grazing on DSL lands. This alternative was rejected because it would be contrary to the economic purposes of State Trust Lands and could eventually lead to lands being used for other purposes less compatible with conservation of sage-grouse habitat.

Public Comments

You may submit your comments and materials by one of the methods listed in the ADDRESSES section. We request data, information, opinions, or suggestions from the public, other concerned governmental agencies, the scientific community, Tribes, industry, or any other interested party on our proposed permit action. We particularly seek comments on the following: (1) Biological information and relevant data concerning the greater sage-grouse; (2) current or planned activities in the subject area and their possible impacts on the greater sage-grouse; (3) identification of any other environmental issues that should be considered with regard to the proposed permit action; and (4) information regarding the adequacy of the draft CCAA pursuant to the requirements for permits at 50 CFR parts 13 and 17.

Public Availability of Comments

All comments and materials we receive become part of the public record associated with this action. Before including your address, phone number, email address, or other personally identifiable information (PII) in your comments, you should be aware that your entire comment—including your PII—may be made publicly available at any time. While you can ask us in your comment to withhold your PII from public review, we cannot guarantee that we will be able to do so. Comments and materials we receive, as well as supporting documentation we use in preparing the EA, will be available for public inspection by appointment, during normal business hours, at our Oregon Fish and Wildlife Office (see ADDRESSES).

Next Steps

After completion of the EA based on consideration of public comments, we will determine whether adoption of the proposed CCAA warrants a finding of no significant impact or whether an environmental impact statement should be prepared. We will evaluate the proposed CCAA as well as any comments we receive, to determine whether implementation of the proposed CCAA would meet the requirements for issuance of an EOS permit under section 10(a)(1)(A) of the ESA. We will also evaluate whether the proposed permit action would comply with section 7 of the ESA by conducting an intra-Service section 7 consultation. We will consider the results of this consultation, in combination with the above findings, in our final analysis to determine whether or not to issue an EOS permit to the DSL. We will not make our final decision until after the end of the 30-day public comment period, and we will fully consider all comments we receive during the public comment period.

Authority

We provide this notice in accordance with the requirements of section 10 of the ESA (16 U.S.C. 1531 et seq.), and NEPA (42 U.S.C. 4321 et seq.) and their implementing regulations (50 CFR 17.22 and 40 CFR 1506.6, respectively).

Dated: February 10, 2015.
Richard Hannan,
Deputy Regional Director, Pacific Region, U.S. Fish and Wildlife Service, Portland, Oregon.

[FR Doc. 2015-03565 Filed 2-20-15; 8:45 am]

BILLING CODE 4310-55-P